COMMODITY FUTURES TRADING COMMISSION

17 CFR Part 4

RIN 3038-AC25

Commodity Pool Operator Electronic Filing of Annual Reports

Correction

In proposed rule document 05-23965 beginning on page 74240 in the issue of Thursday, December 15, 2005, make the following corrections:

1. On page 74241, in the first column, in the first paragraph, in the ninth line, “report; (iii) to” should read “report; and (iii) to”.

2. On the same page, in the same column, in the second paragraph, in the seventh line, “would: explicitly” should read “would: (i) Explicitly”.

3. On the same page, in the same column, in the same paragraph, in the 13th line, “principles; clarify that” should read “principles; (ii) clarify that”.

4. On the same page, in the same column, in the same paragraph, in the same line, “COPs” should read “CPOs”.

5. On the same page, in the same column, in the same paragraph, in the 16th line, “NFA; clarify” should read “NFA; (iii) clarify”.

6. On the same page, in the same column, in the same paragraph, in the 22nd line, “person; and require” should read “person; and (iv) require”.

7. On the same page, in the same column, under the heading DATES, in the second line, “January 17, 2005” should read “January 17, 2006”.

8. On the same page, in the second column, in the first full paragraph, in the seventh line, “to” should read “or”.

9. On the same page, in the same column, in the same paragraph, in the ninth line, “COP” should read “CPO”.

10. On the same page, in the same column, in the second full paragraph, in the eighth line, “compete” should read “complete”.

11. On the same page, in the third column, in the first full paragraph, in the fourth line from the bottom, “COPs” should read “CPOs”.

12. On page 74242, in the second column, in the second full paragraph, in the second line, “field” should read “filed”.

13. On page 74243, in the first column, in the second full paragraph, in the first line, “proposed” should read “proposes”.

14. On the same page, in the second column, in the second full paragraph, in the 15th line, “preform” should read “perform”.

§4.7 [Corrected]

15. On page 74245, in the first column, in §4.7 (b)(3), in the second line, “in” should read “of”.

§4.22 [Corrected]

16. On the same page, in the second column, in §4.22 (c), in the first paragraph, in the 11th line, “an” should read “any”.

17. On the same page, in the same column, in §4.22 (d), in the first line, “statement” should read “statements”.

[FR Doc. C5-23965 Filed 1-6-06; 8:45 am]

BILLING CODE 1505-01-D

ENVIRONMENTAL PROTECTION AGENCY

40 CFR Part 52

[R04-OAR-2005-AL-0001-200520a; FRL-8014-9]

Approval and Promulgation of Implementation Plans; Alabama; Nitrogen Oxides Budget and Allowance Trading Program, Phase II

Correction

In rule document 05-24474 beginning on page 76694 in the issue of Wednesday, December 28, 2005, make the following correction:

On page 76694, in the third column, in the ACTION: line, “Final rule” should read “Direct final rule”.

[FR Doc. C5-24474 Filed 1-6-06; 8:45 am]

BILLING CODE 1505-01-D